DEPARTMENT OF COMMERCE

National Oceanic and Atmospheric Administration

[RTID 0648-XE899]

Marine Mammals; File No. 28894

AGENCY: National Marine Fisheries Service (NMFS), National Oceanic and Atmospheric Administration (NOAA), Commerce.

ACTION: Notice; issuance of permit.

SUMMARY: Notice is hereby given that a permit has been issued to Charted Marine Consulting, 536 Fairfax Ave., Norfolk, VA 23507 (Responsible Party: Kristi Fazioli) to conduct research on bottlenose dolphins (Tursiops truncatus).

ADDRESSES: The permit and related documents are available for review upon written request via email to NMFS.Pr1Comments@noaa.gov.

FOR FURTHER INFORMATION CONTACT: Amy Hapeman, (301) 427-8401.

SUPPLEMENTARY INFORMATION: On March 28, 2025, notice was published in the Federal Register (90 FR 14121) that a request for a permit to conduct research on the species identified above had been submitted by the above-named applicant. The requested permit has been issued under the authority of the Marine Mammal Protection Act of 1972, as amended (16 U.S.C. 1361 et seq.), the regulations governing the taking and importing of marine mammals (50 CFR part 216).

The permit authorizes the holder to conduct research on bottlenose dolphins in the bays, sounds, estuaries, and near-shore coastal waters of Texas in the northwestern Gulf of America. The purpose of the research is to: (1) develop and maintain photo-identification catalogs; (2) characterize fine-scale population structure and dynamics; (3) establish baseline patterns of distribution, habitat use, health, and survival; (4) evaluate dolphin behavior in relation to anthropogenic activities; and (5) identify potential risks to the population. Researchers may take up to 8,670 dolphins annually during vessel surveys for counts, photo-identification, behavioral observation, and passive acoustic recordings. A subset of animals may be biopsy sampled or observed for photogrammetry and blow sampling via an unmanned aircraft system. Up to 50 non-target cetaceans may be unintentionally harassed during surveys and/or approached annually for counts and behavioral observation. The permit is valid for 10 years from the date of issuance.

In compliance with the National Environmental Policy Act of 1969 (42 U.S.C. 4321 et seq.), a final determination has been made that the activity proposed is categorically excluded from the requirement to prepare an environmental assessment or environmental impact statement.

Dated: May 21, 2025.
Shannon Bettridge,
Chief, Marine Mammal and Sea Turtle Conservation Division, Office of Protected Resources, National Marine Fisheries Service.

[FR Doc. 2025-09508 Filed 5-23-25; 8:45 am]

BILLING CODE 3510-22-P